SMALL BUSINESS ADMINISTRATION

[Disaster Declaration #14499 and #14500]

California Disaster Number CA-00240

AGENCY: U.S. Small Business Administration.

ACTION: Amendment 1.

SUMMARY: This is an amendment of the Presidential declaration of a major disaster for Public Assistance Only for the State of California (FEMA-4240-DR), dated 10/08/2015.

Incident: Valley Fire and Butte Fire.

Incident Period: 09/09/2015 through 10/30/2015.

Effective Date: 10/30/2015.

Physical Loan Application Deadline Date: 12/07/2015.

Economic Injury (EIDL) Loan Application Deadline Date: 07/08/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of California, dated 10/08/2015, is hereby amended to establish the incident period for this disaster as beginning 09/09/2015 and continuing through 10/30/2015.

All other information in the original declaration remains unchanged.

(Catalog of Federal Domestic Assistance Numbers 59008)

James E. Rivera,
Associate Administrator for Disaster Assistance.

[FR Doc. 2015-28872 Filed 11-12-15; 8:45 am]

BILLING CODE 8025-01-P